Executive Order 13260 of March 19, 2002

Establishing the President's Homeland Security Advisory Council and Senior Advisory Committees for Homeland

Security

By the authority vested in me as President by the Constitution and the laws of the United States of America, it is hereby ordered as follows:

Section 1. President's Homeland Security Advisory Council.

(a) Establishment and Membership. I hereby establish the President's Homeland Security Advisory Council (PHSAC). The PHSAC shall be composed of not more than 21 members appointed by the President. In addition, the Chair and the Vice Chair of the National Infrastructure Advisory Council; the Chairman of the President's National Security Telecommunications Advisory Committee; and the Chair of the Panel on the Science and Technology of Combating Terrorism, President's Council of Advisors on Science and Technology, shall serve as ex officio members of the PHSAC. The appointed members of the PHSAC shall be selected from the private sector, academia, professional service associations, federally funded research and development centers, nongovernmental organizations, State and local governments, and other appropriate professions and communities.

(b) Chair and Vice Chair. The President shall designate a Chair and Vice Chair from among the appointed members of the PHSAC.

(c) Senior Advisory Committees. (i) Establishment and Membership. The following four Senior Advisory Committees for Homeland Security (SACs) are hereby established to advise the PHSAC: (1) State and Local Officials; (2) Academia and Policy Research; (3) Private Sector; and (4) Emergency Services, Law Enforcement, and Public Health and Hospitals. Each SAC shall generally be composed of not more than 17 members selected by the Assistant to the President for Homeland Security (Assistant). The President may establish additional SACs as appropriate, consistent with this order.

(ii) Chairs and Vice Chairs. The Assistant shall from time to time designate a Chair and Vice Chair for each of the SACs from among the PHSAC's members.

(iii) Subcommittees. The Chair of each SAC, in consultation with the PHSAC, may as appropriate establish subcommittees to advise the SAC.

Sec. 2. Functions. The PHSAC shall meet periodically at the Assistant's request to:

(a) provide advice to the President through the Assistant on developing and coordinating the implementation of a comprehensive national strategy to secure the United States from terrorist threats or attacks;

(b) recommend to the President through the Assistant ways to improve coordination, cooperation, and communication among Federal, State, and local officials and private and other entities, and provide a means to collect scholarly research, technological advice, and information concerning processes and organizational management practices both inside and outside of the Federal Government;

(c) provide advice to the President through the Assistant regarding the feasibility of implementing specific measures to detect, prepare for, prevent, protect against, respond to, and recover from terrorist threats or attacks within the United States;

(d) examine, and advise the President through the Assistant on, the effectiveness of the implementation of specific strategies to detect, prepare for, prevent, protect against, respond to, and recover from terrorist threats or attacks within the United States; and

(e) report periodically, as appropriate, to the President through the Assistant on matters within the scope of the PHSAC's functions as described in paragraphs (a) through (d) of this section.

Sec. 3. Administration. (a) Upon the request of the Chair of the PHSAC, through the Assistant, and to the extent permitted by law, the heads of executive departments and agencies shall provide the PHSAC with such information relating to homeland security matters as the PHSAC may need for the purpose of carrying out its functions.

(b) The PHSAC shall have an Executive Director selected by the Assistant.

(c) Members shall serve without compensation for their work on the PHSAC, the SACs, and any subcommittees thereof. However, members shall be allowed travel expenses, including per diem in lieu of subsistence, as authorized by law for persons serving intermittently in Federal Government service (5 U.S.C. 5701-5707).

(d) To the extent permitted by law, and subject to the availability of appropriations, the Office of Administration shall provide the PHSAC with administrative support and with such funds as may be necessary for the performance of the PHSAC's functions.

Sec. 4. General Provisions. (a) Insofar as the Federal Advisory Committee Act, as amended (5 U.S.C. App.) (Act), may apply to the administration of any portion of this order, any functions of the President under that Act, except that of reporting to the Congress, shall be performed by the Administrator of General Services in accordance with the guidelines that have been issued by the Administrator.

(b) The PHSAC, any SACs, and any SAC subcommittees shall terminate 2 years from the date of this order unless extended by the President.

B

THE WHITE HOUSE,

March 19, 2002.

[FR Doc. 02-07086

Filed 03-20-02; 12:11 pm]

Billing code 3195-01-P